DEPARTMENT OF COMMERCE

National Oceanic and Atmospheric Administration

[I.D. 080205A]

Issuance of an Incidental Take Permit (1528)

AGENCY: National Marine Fisheries Service (NMFS), National Oceanic and Atmospheric Administration, Commerce

ACTION: Notice of permit issuance.

SUMMARY: Notice is hereby given that NMFS issued on August 26, 2005, an incidental take permit (Permit 1528) to the North Carolina Division of Marine Fisheries (NCDMF) pursuant to the Endangered Species Act of 1973 (ESA), as amended. As required by the ESA, NCDMF's Permit 1528 includes a conservation plan designed to minimize and mitigate any such take of endangered or threatened species. Permit 1528 is for the incidental take of ESA-listed adult and juvenile sea turtles associated with otherwise lawful commercial fall gill net fisheries for flounder operating in Pamlico Sound, NC. The duration of Permit 1528 is for 6 years.

ADDRESSES: The application, permit, and related documents are available in the following office by appointment:

Marine Mammal and Turtle Division, Office of Protected Resources, NMFS, 1315 East-West Highway, Silver Spring, MD 20910.

The application and permit are also available for download at http://www.nmfs.noaa.gov/prot_res/PR3/Permits/ESAPermit.html.

FOR FURTHER INFORMATION CONTACT: Therese Conant (ph. 301-713-1401, fax 301-427-2522, e-mail Therese.Conant@noaa.gov; Dennis Klemm (ph. 727-824-5312, fax 727-824-5309, e-mail Dennis.Klemm@noaa.gov).

SUPPLEMENTARY INFORMATION: Issuance of permits and permit modifications, as required by the ESA (16 U.S.C. 1531-1543), is based on a finding that such permits/modifications: (1) are applied for in good faith; (2) would not operate to the disadvantage of the listed species which are the subject of the permits; and (3) are consistent with the purposes and policies set forth in section 2 of the ESA. Incidental take permits are issued under section 10(a)(1)(B) of the ESA. Authority to take listed species is subject to conditions set forth in the permits. NMFS regulations governing permits for threatened and endangered species are promulgated at 50 CFR 222.307.

Species and Geographic Area Covered

The following species are included in Permit 1528 conservation plan: Loggerhead (Caretta caretta), green (Chelonia mydas), leatherback (Dermochelys coriacea), hawksbill (Eretmochelys imbricata), and Kemp's ridley (Lepidochelys kempii) sea turtles. The conservation plan includes managing the shallow water large and small mesh gill net fisheries operating from September through mid-December in areas adjacent to the Outer Banks and along the western shore of the continental mainland in Pamlico Sound. Seven gill net restricted areas (GNRAs) will be designated for the eastern Pamlico Sound and one GNRA in the western Pamlico Sound along the mainland in Hyde and Pamlico Counties.

Conservation Plan

Permit 1528 includes measures to limit the commercial fall gill net fishery for flounder such that the impacts on ESA-listed sea turtles will be minimized. NCDMF would use a variety of adaptive fishery management measures and restrictions through their state proclamation authority to reduce lethal and non-lethal sea turtle incidental capture.

Specific measures to be implemented each year include: (1) tending for gillnets less than 5-inch (12.7-cm) stretched mesh from September 1 through October 31; (2) prohibiting gillnets ≥5 -inch ≥12.7-cm) stretched mesh in areas adjacent to Ocracoke, Hatteras, and Oregon Inlets from September 1 through December 15 (note: Although the restrictions specified in Permit 1528 apply through December 15 each year, NCDMF is closing the entire shallow water flounder fishery on December 1 each year to prevent overfishing): (3) restricting the maximum net length per fishing operation to 2,000 yards (1,828 m); (4) requiring NCDMF-issued permits for active fishing operations employing large mesh gillnets in restricted areas between September 1 and December 15; (5) requiring reporting, safe-handling, and resuscitation for sea turtles caught incidental to fishing; and (6) monitoring gear interactions in large and small mesh gillnets through a mandatory observer program as well as through reports from fishermen and NCDMF Marine Patrol.

Comments

NMFS published a notice of availability on April 1, 2005 (70 FR 16803), and requested comments on the NCDMF application. NMFS received comments from the States of North Carolina, South Carolina, Georgia, and Florida, as well as comments from 4 non-governmental organizations.

NMFS received eight comment letters from individual citizens, of which seven were from communities located on the North Carolina coast. After the comment period closed, NMFS received a petition with nearly 1,800 signatures recognizing that the ocean, sounds, and estuaries belong to all citizens and protesting the issuance of the permit to allow lethal take of 100 sea turtles each year. NMFS also received over 1,300 e-mails protesting the permit's issuance.

Comment 1: All individual citizens, as well as the petition signers, were concerned about the take levels identified in the application and were opposed to issuing the permit. Several respondents raised the concern that the benefits of ongoing conservation efforts on the nesting beaches to protect eggs as well as efforts to rehabilitate and release injured or diseased turtles would be negated by the loss of turtles through the issuance of this permit. One respondent cited other state's prohibitions on gillnets and questioned North Carolina's management of sea turtle bycatch.

Response. The annual anticipated lethal and nonlethal incidental take of sea turtles has been 100 and 320, respectively, and represented the upper 95-percent confidence limit in the estimates derived from the at-sea observer program conducted from 1999 through 2001. Thus, the take level was a worse-case scenario and did not necessarily represent what occurred each year. Based on the point estimate, take each year has been much lower than what was anticipated in the previous permit: 2001 = 16 lethal and 46 nonlethal; 2002 = 8 lethal and 162 nonlethal; 2003 = 15 lethal and 19 nonlethal; and 2004 = 26 lethal and 40 nonlethal. Indeed, analyses of the data collected in more recent years indicate take levels are at least 43 percent lower than previously estimated. Based on the new data, NMFS anticipates the new take level for Permit 1528 to be 65 lethal and 185 nonlethal. This take level is based on the upper 95 percent confidence limit of the estimate for 2002 which represented the worst year for estimated take. NMFS analyzes the highest impact to the protected species (see response to Comment 14), but, as stated earlier, it is more likely that the annual take level will be much lower than the level specified in Permit 1528. NCDMF will monitor its activities on a weekly basis, and should take levels exceed those specified in the permit, NCDMF will, in concurrence with NMFS, take necessary action to ensure no further takes occur.

NMFS has determined that each sea turtle species has the capacity to replace the lethal take levels specified in Permit 1528 without jeopardizing the continued existence of each species. A prerequisite to issuing the permit is that NMFS must consult under ESA section 7 to determine whether the permitted activities would jeopardize the continued existence of the listed sea turtles. NMFS considered the status and trends of the sea turtle populations affected by the southern flounder fishery. The analysis included all factors, including conservation efforts, that have led to the species status. NMFS concluded in its section 7 consultation that the permit would not jeopardize the continued existence of sea turtles by appreciably reducing the likelihood of both the survival and recovery of these species. Further, NMFS has determined that NCDMF Permit 1528 meets the issuance criteria at 50 CFR 222.307(c) in that the southern flounder fishery is a legal operation, the 'take' is incidental to the legal activity, and the NCDMF has developed and implemented a conservation plan that reduces and minimizes the impacts of the take. NCDMF Permit 1528 proscribes specific measures to reduce sea turtle incidental take in the southern flounder fishery and provides specific monitoring and evaluation measures.

NMFS recognizes that several states have prohibited gillnets to prevent interactions with sea turtles. In 2002, NMFS closed Pamlico Sound to fishing with large mesh gillnets from September 1 through December 15 in order to protect sea turtles. NMFS subsequently issued NCDMF a permit to allow the more traditional shallow water fishery to operate in the closed area. This earlier permit, as well as NCDMF Permit 1528, includes closures around the inlet areas where sea turtle interactions were documented to be more frequent. The deepwater closure along with the management measures identified in the NCDMF permits have greatly reduced sea turtle interactions in the southern flounder gillnet fishery. As stated earlier, NCDMF will closely monitor the fishery to ensure that sea turtle interactions do not exceed those anticipated in the permit.

Comment 2: The 6-year permit duration was a concern for several commenters. They felt the long duration period would hinder timely changes to management and weaken evaluation of management measures. They also wanted assurances that the management program would be evaluated annually and adjusted accordingly.

Response. Although Permit 1528 is for a 6-year period, it must be renewed on an annual basis. Renewal of this permit is not automatic. Yearly evaluation of this permit by NMFS will include re-analyses of all data. Data include at-sea monitoring, NC Trip Ticket Program, fish house checks, enforcement, strandings and other relevant information. The permit requires weekly, monthly, and yearly reporting. This requirement is unchanged from the previous 3-year permit issued to NCDMF. Based on the ongoing reports, weekly, monthly and yearly evaluations, NMFS and NCDMF will make adaptive management (see Permit 1528 IV.A.10. Adaptive Management Protocols) changes to ensure conservation of sea turtles. Should a potential problem occur, the Adaptive Management Protocols establish a decision making process for changing management based on ongoing events and evaluation of data collected.

Comment 3: Additional research should focus on gear modifications (e.g., reduced mesh size) or changes to fishing practices (e.g., more frequent net-tending) to determine methods to further reduce lethal take in the southern flounder fishery

Response. The goal of NCDMF Permit 1528 is to reduce sea turtle take levels by 50 percent from the level recorded in 1999. In tandem with the deepwater closure, this goal has been realized each year, and take levels have remained well below authorized thresholds for the last three years. The majority (70 percent) of all interactions have been with live individuals that have been subsequently sampled, and released in good condition at or near inlets. NCDMF Permit 1528 stipulates measures to reduce interactions including yardage limits, attendance requirements on small mesh, and area closures. NCDMF Permit 1528 also provides for adaptive management should data and events indicate that additional changes to management are necessary to reduce lethal take. NCDMF is currently focusing research on modifications to gillnets in the deepwater fishery. However, NCDMF will consider testing modifications to the shallow water fishery to reduce lethal take of sea turtles, while maintaining a viable target catch, should funds become available. Additional testing would be done through a modification of Permit 1528 or through a separate permit.

Comment 4: Only one adaptive management measure should be implemented at any one time. Should sea turtle mortality rates increase, NCDMF must be able to determine which measures may have caused the increase.

Response. Management changes from previous permits specified in the new NCDMF Permit 1528 include shifting observer effort to better direct resources to time and areas with increased fishing effort and where turtle interactions are known to occur. Specifically, there will be a goal of 2 percent observer coverage for the first two weeks and the last four weeks of the season, while maintaining a goal of 10 percent during the rest of the season. Second, fishermen along the mainland side of Pamlico Sound will not be required to obtain a permit. Finally, only active fishermen need to report each week. These management shifts are designed to better direct resources where most necessary for the continued protection of sea turtle populations and will be expedited through adaptive management and increased enforcement capabilities as described below.

NCDMF anticipates that actual percent coverage may be higher than the 2-percent coverage goal for the first two and last four weeks of the season. Should an interaction occur during these times, NCDMF will increase monitoring in the area in order to characterize and identify potential 'hot spots' for turtle interactions. This also facilitates the ability to implement management alternatives, such as partial area closures, in a timely manner.

Concerning the mainland side of Pamlico Sound, elimination of the permit requirement is warranted due to the lack of observed turtle interactions and reduced effort in this area. While fishermen in this area will not need a permit, all other stipulations will remain: maximum yardage limit, mandatory observer coverage, fishing within 200 yards (0.18 km) of shore only (shallow water), and proper sea turtle reporting, handling, and resuscitation protocols.

Reporting requirements will be limited to active fishermen as opposed to requiring all permitted fishermen to report. This will eliminate the staff hours generated in the past in tracking fishermen down only to find out they have not fished. For example, in 2004, a total of 153 permits were issued from September 1 December 15. The highest number of active participants in any week was 61, which occurred during the fourth week of the season. Prior to, and after that, the mean number of participants each week was 47 and 36, respectively. Therefore, the elimination of non-active reporting requirements will decrease the amount of resources that NCDMF expends, and the added burden to the industry.

NCDMF Permit 1528 includes Adaptive Management Protocols which describe the decision process that will be undertaken to facilitate timely (within 48hrs by State proclamation) response to potential problems. This will allow for weekly, monthly, and annual changes to be made in the management program to protect and conserve sea turtles while maintaining an economically viable fishery.

NCDMF also intends to establish a state closure on top of the NMFS closure throughout the Pamlico Sound from December 1 - December 15. This will allow increased enforcement capabilities. NCDMF will conduct weekly boat patrols, spot checks, and flight surveys. NCDMF anticipates a minimum of 30 boat patrols, 15 spot checks and 10 aerial surveys, depending on weather. NCDMF observers will also conduct weekly fish house visits to obtain names, numbers and landings information that can be cross referenced to weekly standardized reporting forms from the commercial fishing industry, enforcement patrols, and the trip ticket database.

The changes to management and monitoring measures are designed to increase compliance and ensure that the management changes remain effective in protecting and conserving sea turtles. The additional monitoring through fish house checks, increased enforcement, and at-sea observer coverage in areas of concern, provide adequate monitoring to ensure that NCDMF can evaluate a suite of changes to management rather than implementing each change individually. These changes are anticipated to enhance, not decrease, NCDMF's ability to respond to and evaluate increases in sea turtle mortality rates as a result of the Pamlico Sound shallow water gillnet fishery.

Comment 5: A commenter requested that each gillnet set should be reduced, at a minimum, to 1,000 yards (914.4 m). They estimated that, currently, nearly 150 miles (241.4 km) of net would be in the water each day during a 3-month period in the fall.

Response. NCDMF estimated approximately 3.7 to 7.1 miles (5.9 to 11.4 km) of net are in the water each day from September 1 through December 15. Although fishermen are allowed to set 2,000 yards (1.8 km), many deploy less net than the maximum allowed due to safety, weather, and equipment considerations. However, some fishermen rely on the maximum allowable yardage to limit adverse economic impacts. The existing management measures (e.g., closures around the inlets, tending requirements) including the 2,000 yard (1.8 km) limit on sets have been shown to be successful at reducing sea turtle interactions. NCDMF and NMFS will continue to monitor the effectiveness of the yard limits through the Adaptive Management Protocols specified in Permit 1528.

Comment 6: The conservation plan should include development of other ways to harvest flounder in Pamlico Sound without the use of gill nets.

Response: The NCDMF gear development program is committed to working with the commercial industry to develop better fishing gears that decrease finfish and protected species bycatch, while maintaining target catches. In the Pamlico Sound deep-water region, there have been two experimental gillnet configurations tested in 2002 and 2004, and a third and final project is scheduled for 2006. These projects have tested gillnets designed to reduce sea turtle interactions, while maintaining flounder catches. The technology from this research will offer fishery managers the knowledge to discuss the potential use of this gear in the deep-water region of Pamlico Sound, as well as the potential use of this gear in other fisheries throughout the Atlantic States. NCDMF will continue working with the commercial fishing industries to identify fishing gear that is more efficient and decreases bycatch.

Comment 7: The conservation plan states that if takes exceed the threshold, NCDMF will selectively close fisheries to reduce interactions between sea turtles and commercial fishing gear. However, if take is exceeded, all gillnet fisheries must be closed.

Response: NMFS will maintain the provisions of previous permits in that if estimated or observed sea turtle interactions or mortalities under the permit exceed thresholds within the GNRAs specified in the permit, NCDMF must immediately close the GNRA to fishing with gillnets. NCDMF must then analyze the available observer data and consult with NMFS to determine the appropriate next steps.

Comment 8: Attendance should be required of all gill nets to ensure that sea turtles are removed as soon as possible from the gear.

Response: Attendance of large mesh gillnets during the fall months throughout Pamlico Sound could pose a serious threat to commercial fishermen operating at that time. Prevailing wind directions and speed, and subsequent shifting water currents throughout Pamlico Sound during the fall can be unpredictable and changing in a short amount of time. Fishermen who use large mesh gillnets for southern flounder deploy their gear typically in the evenings and retrieve in the mornings. Because this is a shallow-water fall fishery where nets are generally soaked 12 hours or less, and waters are cooler, the mortality of finfish bycatch and protected species bycatch is lower. The majority (70 percent) of all sea turtles observed captured in this gear to date have been alive, examined, and released.

Comment 9: NCDMF should increase observer coverage to greater than 10 percent to ensure statistically valid monitoring of endangered and threatened sea turtles.

Response: A goal of 10-percent observer coverage has been the protocol since the inception of the first permit issued in 2000. This coverage level has resulted in statistically valid bycatch estimates for 2000 through 2004. The relatively small area fished, number of vessels, access to vessels, and excellent observer training program, limit the degree of bias in the estimates. Although we agree that increasing coverage will result in better estimates, NCDMF's resources are finite and the 10 percent coverage has been sufficient to ensure monitoring and evaluating sea turtle interactions in the Pamlico Sound shallow water gillnet fishery. NCDMF will also redirect observer coverage when and where needed through the Adaptive Management Protocols established in Permit 1528.

Comment 10: Observer coverage should be maintained at 10 percent during September 1-15 and in November because of annual variability and the possibility of a clumped distribution of turtles.

Response: While a minimum goal of 2-percent coverage will be established during these times, if a sea turtle interaction is observed or reported, the coverage will increase significantly. Monitoring efforts have always been increased when sea turtle interactions occur to accurately characterize interactions and identify potential “hotspots”. Therefore, if sea turtle interactions are reported (by the fishermen) or observed between September 1 - September 15, and November 1 November 30, increased monitoring will occur. Characterizing the fishery in this way has allowed NCDMF the opportunity to implement management alternatives (i.e., area closures) in a timely manner.

Comment 11: At-sea observer programs should not be supplanted by self-reporting.

Response: Permit 1528 will not supplant at-sea monitoring with reports from fishermen. Data have been collected from both sources since the inception of the management program in 2000. To ensure proper coverage is maintained and industry compliance continues, NCDMF will implement increased enforcement efforts (see responses to Comments 2 and 4).

Comment 12: Several commenters were unclear on how compliance of non-active fishermen will be monitored, given fishermen are no longer required to report during weeks they are not fishing.

Response: In previous years, only one-half of permitted fishermen actually fished, yet all were required to submit weekly reports. Maintaining this reporting requirement was costly and burdensome to NCDMF and to those individuals who were not actively fishing. Although Permit 1528 removes this requirement, NCDMF has developed a monitoring program that will ensure compliance (see response to Comments 2 and 4).

Comment 13: The application lacks detail on how estimates are derived. This information is important in order to assess the effectiveness of the conservation plan.

Response: The sampling area has been stratified by area and week for sea turtle bycatch estimates. Observed point estimates are made each week for each area. A stratified ratio method will be used to estimate the number of sea turtles caught per unit of fishing effort (fishing effort is measured by yards of gillnet multiplied by soak days reported through logbooks). These observed takes are extrapolated by the total reported effort each week in each area to obtain an estimate. These weekly estimates are cumulative such that reaching the estimated threshold would result in revocation of Permit 1528.

Comment 14: Take levels are meant to represent expectations and, therefore, a mean estimated take derived from the previous years estimates would be a more appropriate take level for the new permit.

Response: Take levels are based on the anticipated take that may occur as a result of the action. However, because of natural variability in sea turtle abundance, environmental conditions, and chance events, annual variability in sea turtle interactions can be quite high. It is more appropriate to utilize a reasonable worst-case scenario. We used the upper one-sided 95-percent confidence limit calculated from observer program and effort data, from the year with the highest estimated take. Similarly, we used a worst-case scenario in order to determine whether issuance of Permit 1528 would result in jeopardizing the continued existence of listed species. This is a conservative approach that considers the impacts to the species at a higher take level than what is likely to occur in any given year. Every year since the shallow-water Pamlico Sound flounder gillnet fishery has been opened under a section 10 permit, the estimated take levels have been significantly lower than the levels specified in the permits (see response to Comment 1).

Comment 15: NCDMF should complete an analysis of the impact of the pre-1999 mortality rate on the larger sea turtle populations, with a special emphasis on juvenile and sub-adult mortality. Permit 1528's 50-percent take reduction goal is based on the 1999 levels of strandings, which did not represent normal stranding years. Permit 1528 should have reduced take levels which more closely track previous inshore strandings from all sources.

Response: The 50-percent take reduction goal based on the 1999 levels of strandings in the original permit was a result of a lack of fishery data to estimate the expected take levels from the gillnet fishery. It was expected that the measures enacted would be sufficient to result in a 50-percent reduction in strandings, which was being used as a proxy for take in the fishery because of a lack of observer data. The results were as expected, and strandings dropped below 50 percent of 1999 levels. As a result of observer coverage in the large-mesh Pamlico Sound flounder gillnet fishery required by the previous ESA section 10 permits, Permit 1528 is now established based on the expected take levels in the fishery as calculated from observer and effort data. Using observer and effort data provides the most appropriate reflection of the expected fishery impacts. Under the original strandings-based permit issued in 2000, loggerhead and Kemp's ridley turtles were the predominant species expected to be taken, because strandings from other sources, including the now closed deep water gillnet component of the fishery, were included. With the more accurate and fishery-specific data from the observers, it is evident that the shallow water flounder gillnet fishery predominantly takes green sea turtles, with loggerhead and Kemp's ridley turtles taken more sporadically and in lesser numbers.

Section 7 biological opinions related to this and previous permits for this fishery have determined that the expected take levels as a result of a deep-water closure and issuance of a permit to allow a managed, shallow water fishery do not jeopardize the continued existence of any of the sea turtle species. This analysis is based on the anticipated take level of the proposed action, the status and trends on the sea turtle populations, and any past, present, or future impacts that may occur in the action area. Because this expected take level does not jeopardize the continued existence of any sea turtle species, the biological reduction goal which is based on a reduction from the higher stranding levels in 1999 has been determined to be adequate under the issuance criteria of 50 CFR 222.307(c).

It is also important to note that since the inception of the deep-water closure (66 FR 50350, October 3, 2001) and the management restrictions specified under the ESA section 10 permits, stranding levels in Pamlico Sound have remained substantially lower than in previous years.

Comment 16: The application does not specify whether takes of leatherbacks and hawksbills are live or lethal. The takes should include live or lethal take.

Response: As in previous permits, Permit 1528 includes two hawksbills and two leatherbacks, observed, not extrapolated, live or dead.

Comment 17: NMFS must conduct an ESA section 7 consultation which accounts for baseline information and cumulative impacts as specified under 50 CFR 402.02.

Response: As with previous permits, NMFS conducted a section 7 analysis which assessed baseline information and considered cumulative effects and concluded on August 19, 2005, that the issuance of Permit 1528 would not likely jeopardize the continued existence of listed sea turtles. See ADDRESSES for a copy of the biological opinion.

Comment 18: The application qualifies as a major Federal action and thus must be analyzed through an Environmental Impact Statement (EIS).

Response: NMFS has determined that the issuance of Permit 1528 does not constitute a major Federal action that may significantly affect the quality of the human environment. The management of the shallow water gillnet fishery in Pamlico Sound does not pose a public health or safety concern, and the effects can be sufficiently analyzed under an Environmental Assessment (EA) (NOA 216-6 section 6.03.e.2(d)).

The shallow water fishery is composed of less than 100 active participants operating in a limited geographic area next to the barrier islands in Pamlico Sound. The fishermen are all local, with home ports in the surrounding counties of Carteret, Pamlico, Hyde, and Dare. The economies in these fishing communities are heavily dependent on the seafood industry, and many of these fishermen have diversified into other fisheries, particularly blue crab or ocean gillnet fisheries, and some have other income from shoreline work. Pamlico Sound is a complex estuarine system and is highly productive. The area supports a diverse array of submerged aquatic vegetation, shorebird species, and marine organisms such as shrimp, crabs, oysters, clams, and finfish. NMFS analyzed the impacts to society, both beneficial and adverse, that may result by issuing Permit 1528 and determined the impact to be not significant. See ADDRESSES for a copy of the EA.

Comment 19: NMFS should make its analyses on the issuance of Permit 1528 available to the public and solicit another round of comments prior to issuance of the permit.

Response: While a second round of public comments may be beneficial to the public at large, the Pamlico Sound shallow water fishery begins September 1. A second round of public comments would likely result in issuing Permit 1528 well past the September start date. NMFS will accept, at any time, comments and additional data on Permit 1528. This information will be considered in annual reauthorization of Permit 1528.

Comment 20: Observer coverage must be mandatory and adequate, and funding must be assured. One commenter felt that NMFS should fund at least 50 percent or more of the observer program.

Response: Observer coverage will be a mandatory requirement of the permit. NCDMF is expected to have adequate funds to provide the mandatory observer coverage. The permit requires the stipulated levels of observer coverage, and therefore if the required levels cannot be met, management actions would be undertaken to address the issue.

As to NMFS funding some level of the observer program, ESA section 10(a)(2) clearly specifies that the applicant is responsible for identifying available funds for conservation plans under section 10(a)(1)(B). However, NMFS works closely with NCDMF to help identify appropriate funding sources, as well as provide funding support when appropriate and when funds are available.

Comment 21: NMFS needs to expeditiously address the problem of the cumulative impact of Atlantic gillnets, not just the impacts from the Pamlico Sound gillnet fisheries.

Response: NMFS recognizes the need to take a broader, gear-based approach to dealing with fishery impacts on sea turtles. NMFS has devoted staff to gather information on a coastwide gear-basis, however, assimilation and evaluation of this information is a long-term process that is still in its early stages. In managing impacts to sea turtles, however, cumulative impacts from both fishery and non-fishery sources are always considered and are taken into account when we analyze actions in pursuant to ESA section 7 jeopardy determinations.

Comment 22: NMFS should continue to support research on the seasonal abundance and distribution of sea turtles in North Carolina waters to determine which inshore, nearshore, and offshore habitats and migratory routes are used by turtles.

Response: NMFS, along with NCDMF, has continuing programs that provide valuable information to help determine migratory routes and important sea turtle habitats. Various sources of information including observer programs and directed research conducted and/or funded by NMFS and NCDMF are providing information leading to a better understanding of sea turtles in North Carolina waters.

Comment 23: Pound net interactions data need to be made available to help develop future management efforts.

Response: Interaction data from various fishery observer programs, and directed research, including the pound net fisheries, are always used where appropriate to get a better understanding of sea turtle abundance, distribution, behavior, and habitat use in order to aid future management efforts. When pound net data are fully analyzed and available, NMFS will review the data to determine whether changes are necessary to future management efforts.

Upon a review of the application, relevant documents, public comments, and further discussions with NCDMF, NMFS found that the application met the criteria for issuance of 50 CFR 222.307(c). Permit 1528 was issued on August 26, 2005, and expires on December 31, 2010.

Dated: August 30, 2005.
Thomas C. Eagle,
Acting Chief, Marine Mammal and Turtle Division, Office of Protected Resources, National Marine Fisheries Service.

[FR Doc. 05-17638 Filed 9-2-05; 8:45 am]

BILLING CODE 3510-22-S